DEPARTMENT OF ENERGY

Federal Energy Regulatory Commission

Combined Notice of Filings # 1

February 20, 2008.

Take notice that the Commission received the following electric rate filings:

Docket Numbers: ER08-221-002.

Applicants: PJM Interconnection, L.L.C.

Description: PJM Interconnection, LLC submits response to 1/11/08 deficiency letter regarding PJM's 11/15/07 filing of an executed interconnection service agreement among PJM, Ameresco Stafford LLC and Virginia Electric and Power Company.

Filed Date: 02/14/2008.

Accession Number: 20080219-0092.

Comment Date: 5 p.m. Eastern Time on Thursday, March 6, 2008.

Docket Numbers: ER08-411-002.

Applicants: Tiger Natural Gas, Inc.

Description: Tiger Natural Gas, Inc. submits Asset Appendix—2 pages and FERC Electric Tariff-Substitute Original Sheet.

Filed Date: 02/14/2008.

Accession Number: 20080219-0093.

Comment Date: 5 p.m. Eastern Time on Thursday, March 6, 2008.

Docket Numbers: ER08-516-001.

Applicants: PJM Interconnection, L.L.C.

Description: PJM Interconnection, LLC submits revisions to the Reliability Pricing Model at Section 510 et al. of the Attachment DD of the PJM Open Access Transmission Tariff in order to reflect recently increased construction cost.

Filed Date: 02/14/2008.

Accession Number: 20080219-0094.

Comment Date: 5 p.m. Eastern Time on Thursday, March 6, 2008.

Docket Numbers: ER08-527-001.

Applicants: Public Service Company of Colorado.

Description: Public Service Company of Colorado submits First Revised Sheets 12 et al. to its First Revised Schedule FERC 44 et al., as an errata to its 2/1/08 filing.

Filed Date: 02/14/2008.

Accession Number: 20080219-0095.

Comment Date: 5 p.m. Eastern Time on Thursday, March 6, 2008.

Docket Numbers: ER08-563-000.

Applicants: PJM Interconnection, L.L.C.

Description: PJM Interconnection, LLC submits an executed interconnection service agreement among PJM, Shaffer Mountain Wind LLC and Pennsylvania Electric Company a FirstEnergy Company.

Filed Date: 02/14/2008.

Accession Number: 20080219-0091.

Comment Date: 5 p.m. Eastern Time on Thursday, March 6, 2008.

Docket Numbers: ER08-565-000.

Applicants: Pacific Gas and Electric Company.

Description: Pacific Gas and Electric Co. submits agreements for additional capacity with Wellhead Power Panoche, LLC.

Filed Date: 02/15/2008.

Accession Number: 20080219-0147.

Comment Date: 5 p.m. Eastern Time on Friday, March 7, 2008.

Docket Numbers: ER08-566-000.

Applicants: Pacific Gas and Electric Company.

Description: Pacific Gas and Electric Company submits filing and acceptance two new agreements between PG&E and the Western Area Power Administration.

Filed Date: 02/15/2008.

Accession Number: 20080219-0096.

Comment Date: 5 p.m. Eastern Time on Friday, March 7, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-3565 Filed 2-25-08; 8:45 am]

BILLING CODE 6717-01-P